FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
018140NF | Commonwealth Custom Broker, Inc. dba C.C.B. Logistics, dba C.C.B. Terminal, 8100 NW 29th Avenue, Miami, FL 33122 | January 14, 2004.
002652NF | IFF, Inc., 452A Plaza Drive, Atlanta, GA 30320 | May 14, 2004.
004179NF | Lilly & Associates—International Freight Forwarders, Inc., 8501 NW 17th Street, Suite 101, Miami, FL 33126 | May 1, 2004.

Sandra L. Kusumoto,
Director, Bureau of Consumer Complaints and Licensing.

[FR Doc. 04-13060 Filed 6-8-04; 8:45 am]

BILLING CODE 6730-01-P